DEPARTMENT OF COMMERCE

National Oceanic and Atmospheric Administration

RIN 0648-XV43

Advisory Committee to the U.S. Section to the International Commission for the Conservation of Atlantic Tunas; Spring Species Working Group Meeting

AGENCY: National Marine Fisheries Service (NMFS), National Oceanic and Atmospheric Administration (NOAA), Commerce.

ACTION: Notice of Advisory Committee meeting.

SUMMARY: The Advisory Committee (Committee) to the U.S. Section to the International Commission for the Conservation of Atlantic Tunas (ICCAT) announces its spring meeting with its Species Working Group Technical Advisors April 7-9, 2010. The Committee will meet to discuss matters relating to ICCAT, including the 2009 Commission meeting results; research and management activities; global and domestic initiatives related to ICCAT; the Atlantic Tunas Convention Act-required consultation on the identification of countries that are diminishing the effectiveness of ICCAT; the results of the meetings of the Committee's Species Working Groups; and other matters relating to the international management of ICCAT species.

DATES: The open sessions of the Committee meeting will be held on April 7, 2010, 6 p.m. to 7:30 p.m.; April 8, 2010, 8:15 a.m. to 3:15 p.m.; and April 9, 2010, 9 a.m. to 1:15 p.m. Closed sessions will be held on April 8, 2010, 3:15 p.m. to 6:30 p.m.; and April 9, 2010, 8 a.m. to 9 a.m.

ADDRESSES: The meeting will be held at the Crowne Plaza, 8777 Georgia Avenue, Silver Spring, MD 20910. The phone number is 301-589-5200.

FOR FURTHER INFORMATION CONTACT: Rachel O'Malley, (301) 713-9505.

SUPPLEMENTARY INFORMATION: The Advisory Committee to the U.S. Section to ICCAT will meet in open session to receive and discuss information on (1) the 2009 ICCAT meeting results and U.S. implementation of ICCAT decisions; (2) 2009 ICCAT and NMFS research and monitoring activities; (3) 2010 ICCAT activities; (4) global and domestic initiatives related to ICCAT; (5) the Atlantic Tunas Convention Act-required consultation on the identification of countries that are diminishing the effectiveness of ICCAT; (6) the results of the meetings of the Committee's Species Working Groups; and (7) other matters relating to the international management of ICCAT species. The public will have access to the open sessions of the meeting, but there will be no opportunity for public comment.

The Committee will meet in its Species Working Groups for a portion of the afternoon of April 8, 2010, and of the morning of April 9, 2010. These sessions are not open to the public, but the results of the Species Working Group discussions will be reported to the full Advisory Committee during the Committee's open session on April 9, 2010.

Special Accommodations

The meeting location is physically accessible to people with disabilities. Requests for sign language interpretation or other auxiliary aids should be directed to Rachel O'Malley at (301) 713-9505 at least 5 days prior to the meeting date.

Dated: March 19, 2010.
Rebecca J. Lent,
Director, Office of International Affairs, National Marine Fisheries Service.

[FR Doc. 2010-6645 Filed 3-24-10; 8:45 am]

BILLING CODE 3510-22-S